DEPARTMENT OF COMMERCE

International Trade Administration

[A-489-805]

Certain Pasta from Turkey: Notice of Final Results of Antidumping Duty Changed Circumstances Review

AGENCY: Import Administration, International Trade Administration, Department of Commerce.

SUMMARY: On January 7, 2009, the Department of Commerce (“the Department”) published a notice of initiation of a changed circumstances review of the antidumping duty order of certain pasta from Turkey as requested by Marsan Gida Sanayi ve Ticret A.S. (“Marsan”). On April 8, 2009, the Department preliminary found that Marsan is the successor-in-interest to Gidasa Sabanci Gida Sanayi ve Ticaret A.S. (“Gidasa”), and should be accorded the same antidumping duty treatment accorded Gidasa with respect to the antidumping duty order on certain pasta from Turkey.¹ The Department gave interested parties an opportunity to comment on the preliminary results, but received no comments. Therefore, the final results do not differ from the preliminary results of review.

¹ See Certain Pasta from Turkey: Notice of Preliminary Results of Antidumping Duty Changed Circumstances Review, 74 FR 17153 (April 14, 2009) (“Preliminary Results”).

EFFECTIVE DATE: June 2, 2009.

FOR FURTHER INFORMATION CONTACT: Christopher Hargett, AD/CVD Operations, Office 3, Import Administration, International Trade Administration, U.S. Department of Commerce, 14th Street & Constitution Avenue, NW, Washington, DC 20230; telephone: (202) 482-4161.

SUPPLEMENTARY INFORMATION:

Background

On July 24, 1996, the Department published in the Federal Register an antidumping duty order on certain pasta from Turkey.² On December 3, 2008, Marsan requested that the Department initiate and conduct an expedited changed circumstances review to determine that, for purposes of the antidumping law, Marsan is the successor-in-interest to Gidasa. See December 3, 2008, letter from Marsan to the Secretary of Commerce. On January 7, 2009, the Department published a notice of initiation of a changed circumstances review of the antidumping order.³ On February 23, 2009, the Department requested additional information from Marsan regarding its operations in Turkey. See February 23, 2009, changed circumstances review questionnaire from the Department to Marsan. On March 16, 2009, Marsan replied to the Department's questionnaire. See March 16, 2009, letter from Marsan to the Secretary of Commerce. On April 14, 2009, the Department published the preliminary results of review and invited interested parties to comment. See Preliminary Results. We received no comments.

² See Notice of Antidumping Duty Order and Amended Final Determination of Sales at Less Than Fair Value: Certain Pasta from Turkey, 61 FR 68545 (July 24, 1996).

³ See Notice of Initiation of Antidumping Duty Changed Circumstances Review: Certain Pasta from Turkey, 74 FR 681 (January 7, 2009).

Scope of Review

Imports covered by this review are shipments of certain non-egg dry pasta in packages of five pounds (2.27 kilograms) or less, whether or not enriched or fortified or containing milk or other optional ingredients such as chopped vegetables, vegetable purees, milk, gluten, diastases, vitamins, coloring and flavorings, and up to two percent egg white. The pasta covered by this scope is typically sold in the retail market, in fiberboard or cardboard cartons, or polyethylene or polypropylene bags of varying dimensions.

Excluded from the scope of this review are refrigerated, frozen, or canned pastas, as well as all forms of egg pasta, with the exception of non-egg dry pasta containing up to two percent egg white.

The merchandise subject to review is currently classifiable under item 1902.19.20 of the Harmonized Tariff Schedule of the United States (“HTSUS”). Although the HTSUS subheading is provided for convenience and customs purposes, the written description of the merchandise subject to the order is dispositive.

Final Results of Changed Circumstances Review

Pursuant to section 751(b)(1) of the Tariff Act of 1930, as amended (“the Act”), and 19 CFR 351.216, the Department will conduct a changed circumstances review upon receipt of information concerning, or a request from an interested party for review of, an antidumping duty order which shows changed circumstances sufficient to warrant a review of the order. In this case, the Department found that the information submitted by the respondent provided sufficient evidence of changed circumstances to warrant a review to determine whether Marsan is the successor-in-interest to Gidasa. Thus, in accordance with section 751(b) of the Act, the Department initiated a changed circumstances review to determine whether Marsan is the successor-in-interest to Gidasa for purposes of determining antidumping duty liability with respect to imports of certain pasta from Turkey.

In making a successor-in-interest determination, the Department examines several factors including, but not limited to, changes in: (1) management; (2) production facilities; (3) supplier relationships; and (4) customer base. See, e.g., Notice of Final Results of Changed Circumstances Antidumping Duty Administrative Review: Polychloroprene Rubber From Japan, 67 FR 58 (January 2, 2002); Brass Sheet and Strip from Canada: Final Results of Antidumping Duty Administrative Review, 57 FR 20460 (May 13, 1992). While no single factor or combination of factors will necessarily provide a dispositive indication of a successor-in-interest relationship, the Department will generally consider the new company to be the successor to the previous company if the new company's resulting operation is not materially dissimilar to that of its predecessor. See, e.g., Fresh and Chilled Atlantic Salmon from Norway; Final Results of Changed Circumstances Antidumping Duty Administrative Review, 64 FR 9979 (March 1, 1999); Industrial Phosphoric Acid from Israel; Final Results of Changed Circumstances Review, 59 FR 6944 (February 14, 1994). Thus, if the evidence demonstrates that, with respect to the production and sale of the subject merchandise, the new company operates as the same business entity as the former company, the Department will accord the new company the same antidumping treatment as its predecessor.

In accordance with 19 CFR 351.221(c)(3)(i), we determine that Marsan is the successor-in-interest to Gidasa. In its December 3, 2008, and March 16, 2009, submissions Marsan provided evidence supporting its claim to be the successor-in-interest to Gidasa. Documentation attached to Marsan's December 3, 2008, submission shows that the acquisition of Gidasa by MGS Marmara Gida Sanayi ve Ticaret A.S. (“MGS”) and the following name change to Marsan resulted in little or no change in management, production facilities, supplier relationships, or customer base. This documentation consists of: (1) organizational charts of both Marsan and Gidasa; (2) the documentation of the name change from Gidasa to Marsan; (3) a list of products before and after the acquisition of Gidasa by MGS; (4) a list of suppliers before and after the name change from Gidasa to Marsan; (5) a list of home market and U.S. customers before and after the name change from Gidasa to Marsan; (6) MGS's articles and notice of incorporation; (7) MGS's 2007 management report to shareholders; and (8) MGS's 2008 draft income statement and balance sheet. The documentation described above demonstrates that there was little to no change in management structure, supplier relationships, production facilities, or customer base and, thus, the operations of Marsan are essentially the same as the operations of Gidasa.

Therefore, we find that Marsan is the successor-in-interest to Gidasa and, thus, should receive the same antidumping duty treatment with respect certain pasta from Turkey as the former Gidasa.

The cash deposit determination from this changed circumstances review will apply to all shipments of the subject merchandise entered, or withdrawn from warehouse, for consumption on or after the date of publication of the final results of this changed circumstances review. See Granular Polytetrafluoroethylene Resin from Italy; Final Results of Antidumping Duty Changed Circumstances Review, 68 FR 25327 (May 12, 2003). This deposit rate shall remain in effect until publication of the final results of the next administrative review in which Marsan participates.

Notification

This notice serves as a final reminder to parties to administrative protective orders (“APO"s) of their responsibility concerning the disposition of proprietary information disclosed under APO in accordance with 19 CFR 351.305(a)(5). Failure to timely notify the Department in writing of the return/destruction of APO material is a sanctionable violation.

We are issuing and publishing these results and notice in accordance with sections 751(b)(1) and 777(i)(1) and (2) of the Act and 19 CFR 351.216.

Dated: May 27, 2009.
Ronald K. Lorentzen,
Acting Assistant Secretary for Import Administration.

[FR Doc. E9-12829 Filed 6-1-09; 8:45 am]

BILLING CODE 3510-DS-S